DEPARTMENT OF ENERGY

Federal Energy Regulatory Commission

Combined Notice of Filings

Take notice that the Commission has received the following Natural Gas Pipeline Rate and Refund Report filings:

Docket Numbers: RP21-268-000.

Applicants: Texas Eastern Transmission, LP.

Description: § 4(d) Rate Filing: Negotiated Rates—Colonial 911723 eff 12-01-2020 to be effective 12/1/2020.

Filed Date: 12/1/20.

Accession Number: 20201201-5001.

Comments Due: 5 p.m. ET 12/14/20.

Docket Numbers: RP21-269-000.

Applicants: Equitrans, L.P.

Description: § 4(d) Rate Filing: Negotiated Rate Capacity Release Agreements—12/1/2020 to be effective 12/1/2020.

Filed Date: 12/1/20.

Accession Number: 20201201-5053.

Comments Due: 5 p.m. ET 12/14/20.

Docket Numbers: RP21-270-000.

Applicants: NEXUS Gas Transmission, LLC.

Description: § 4(d) Rate Filing: Negotiated Rates—Various Releases eff 12-01-2020 to be effective 12/1/2020.

Filed Date: 12/1/20.

Accession Number: 20201201-5078.

Comments Due: 5 p.m. ET 12/14/20.

Docket Numbers: RP21-271-000.

Applicants: Texas Eastern Transmission, LP.

Description: § 4(d) Rate Filing: Negotiated Rates—Chevron 911109 Releases eff 12-01-2020 to be effective 12/1/2020.

Filed Date: 12/1/20.

Accession Number: 20201201-5090.

Comments Due: 5 p.m. ET 12/14/20.

Docket Numbers: RP21-272-000.

Applicants: Texas Eastern Transmission, LP.

Description: § 4(d) Rate Filing: Negotiated Rates—Gulfport 911377 to Eco eff 12-1-20 to be effective 12/1/2020.

Filed Date: 12/1/20.

Accession Number: 20201201-5127.

Comments Due: 5 p.m. ET 12/14/20.

Docket Numbers: RP21-273-000.

Applicants: Columbia Gas Transmission, LLC.

Description: § 4(d) Rate Filing: Dec 20 Neg Rate Agmts Amends to be effective 12/1/2020.

Filed Date: 12/1/20.

Accession Number: 20201201-5150.

Comments Due: 5 p.m. ET 12/14/20.

Docket Numbers: RP21-274-000.

Applicants: Northern Natural Gas Company.

Description: § 4(d) Rate Filing: 20201201 Remove Non-Conforming Golden Spread to be effective 1/1/2021.

Filed Date: 12/1/20.

Accession Number: 20201201-5175.

Comments Due: 5 p.m. ET 12/14/20.

Docket Numbers: RP21-275-000.

Applicants: Gulf South Pipeline Company, LLC.

Description: § 4(d) Rate Filing: Cap Rel Neg Rate Agmts (Atlanta Gas 8438 to various shippers eff 12-1-2020) to be effective 12/1/2020.

Filed Date: 12/1/20.

Accession Number: 20201201-5220.

Comments Due: 5 p.m. ET 12/14/20.

Docket Numbers: RP21-276-000.

Applicants: Gulf South Pipeline Company, LLC.

Description: § 4(d) Rate Filing: Cap Rel Neg Rate Agmts (Marathon releases eff 12-1-2020) to be effective 12/1/2020.

Filed Date: 12/1/20.

Accession Number: 20201201-5222.

Comments Due: 5 p.m. ET 12/14/20.

Docket Numbers: RP21-277-000.

Applicants: Texas Gas Transmission, LLC.

Description: § 4(d) Rate Filing: Remove Expired Agmts eff 12-1-2020 to be effective 12/1/2020.

Filed Date: 12/1/20.

Accession Number: 20201201-5224.

Comments Due: 5 p.m. ET 12/14/20.

Docket Numbers: RP21-278-000.

Applicants: MarkWest Pioneer, L.L.C.

Description: § 4(d) Rate Filing: Quarterly Fuel Adjustment Filing to be effective 1/1/2021.

Filed Date: 12/1/20.

Accession Number: 20201201-5244.

Comments Due: 5 p.m. ET 12/14/20.

Docket Numbers: RP21-279-000.

Applicants: Enable Gas Transmission, LLC.

Description: § 4(d) Rate Filing: Negotiated Rate Filing—December 1, 2020 CERC 1001019 to be effective 12/1/2020.

Filed Date: 12/1/20.

Accession Number: 20201201-5267.

Comments Due: 5 p.m. ET 12/14/20.

Docket Numbers: RP21-280-000.

Applicants: Chandeleur Pipe Line, LLC.

Description: Compliance filing Chandeleur Annual Fuel and Gas Loss Retention Adjustment Filing to be effective N/A.

Filed Date: 12/1/20.

Accession Number: 20201201-5268.

Comments Due: 5 p.m. ET 12/14/20.

Docket Numbers: RP21-281-000.

Applicants: Alliance Pipeline L.P.

Description: § 4(d) Rate Filing: Hess 2021 Tioga Usage Charge Filing to be effective 1/1/2021.

Filed Date: 12/1/20.

Accession Number: 20201201-5277.

Comments Due: 5 p.m. ET 12/14/20.

Docket Numbers: RP21-282-000.

Applicants: Alliance Pipeline L.P.

Description: § 4(d) Rate Filing: Negotiated Rates—Rate Schedule PAL to be effective 12/1/2020.

Filed Date: 12/1/20.

Accession Number: 20201201-5297.

Comments Due: 5 p.m. ET 12/14/20.

Docket Numbers: RP21-283-000.

Applicants: Dominion Energy Questar Pipeline, LLC.

Description: § 4(d) Rate Filing: Fuel Gas Reimbursement Percentage for 2021 to be effective 1/1/2021.

Filed Date: 12/1/20.

Accession Number: 20201201-5302.

Comments Due: 5 p.m. ET 12/14/20.

Docket Numbers: RP21-284-000.

Applicants: Columbia Gulf Transmission, LLC.

Description: § 4(d) Rate Filing: CGT SWN Non-conforming NRA #216577 to be effective 1/1/2021.

Filed Date: 12/1/20.

Accession Number: 20201201-5304.

Comments Due: 5 p.m. ET 12/14/20.

Docket Numbers: RP21-285-000.

Applicants: Cameron Interstate Pipeline, LLC.

Description: § 4(d) Rate Filing: Cameron Interstate Pipeline, LLC Annual Adjustment of Fuel Retainage Percentage to be effective 1/1/2021.

Filed Date: 12/1/20.

Accession Number: 20201201-5310.

Comments Due: 5 p.m. ET 12/14/20.

Docket Numbers: RP21-286-000.

Applicants: Dominion Energy Overthrust Pipeline, LLC.

Description: § 4(d) Rate Filing: Non-conforming TSAs—BP, WIC TSAs to be effective 1/1/2021.

Filed Date: 12/1/20.

Accession Number: 20201201-5339.

Comments Due: 5 p.m. ET 12/14/20.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: December 2, 2020.
Kimberly D. Bose,
Secretary.

[FR Doc. 2020-26933 Filed 12-7-20; 8:45 am]

BILLING CODE 6717-01-P